DEPARTMENT OF EDUCATION

[Docket No.: ED-2020-SCC-0138]

Agency Information Collection Activities; Submission to the Office of Management and Budget for Review and Approval; Comment Request; Study of District and School Uses of Federal Education Funds

AGENCY: Institute of Educational Sciences (IES), Department of Education (ED).

ACTION: Notice.

SUMMARY: In accordance with the Paperwork Reduction Act of 1995, ED is proposing a revision of a currently approved collection.

DATES: Interested persons are invited to submit comments on or before January 6, 2021.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Stephanie Stullich, 202-245-6468.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of District and School Uses of Federal Education Funds.

OMB Control Number: 1850-0951.

Type of Review: Revision of a currently approved collection.

Respondents/Affected Public: State, Local, and Tribal Governments.

Total Estimated Number of Annual Responses: 748.

Total Estimated Number of Annual Burden Hours: 7,140.

Abstract: The Study of District and School Uses of Federal Education Funds will examine targeting and resource allocation for five major federal education programs: Part A of Titles I, II, III, and IV of the Elementary and Secondary Education Act (ESEA) and Title I, Part B of the Individuals with Disabilities Education Act (IDEA), as well as funds provided to school districts through the Coronavirus Aid, Relief, and Economic Security Act (CARES Act). The study will collect, from a nationally representative sample of 400 school districts, detailed data on revenues, expenditures, and personnel for the federal programs covered in this study. In addition, the study will collect data on suballocations of those federal funds to districts and schools to examine how the distribution of funds varies in relation to program goals and student needs and will conduct telephone interviews in nine districts to explore how districts use IDEA funds in conjunction with other federal, state, and local funds to meet the needs of students with disabilities.

This package is the second of two OMB clearance requests for this study. A previous package, approved by OMB on June 24, 2020 (OMB 1850-0951) covered the selection and recruitment of a nationally representative sample of school districts and schools and collection of certain preliminary information from states (including lists of subgrantees and suballocation amounts for each program). The current submission is to request OMB clearance for the data collection instruments for this study. We anticipate beginning collection of subgrantee lists and other preliminary information in September 2020 and launching the district- and school-level data collection in January 2021.

Dated: December 2, 2020.
Stephanie Valentine,
PRA Coordinator, Strategic Collections and Clearance Governance and Strategy Division, Office of Chief Data Officer, Office of Planning, Evaluation and Policy Development.

[FR Doc. 2020-26849 Filed 12-4-20; 8:45 am]

BILLING CODE 4000-01-P